DEPARTMENT OF TRANSPORTATION

Federal Aviation Administration

14 CFR Part 71

[Docket No. FAA-2025-0141; Airspace Docket No. 24-AGL-23]

RIN 2120-AA66

Amendment of VOR Federal Airways V-55, V-100, and V-277 in the Vicinity of Keeler, MI; Correction

AGENCY: Federal Aviation Administration (FAA), DOT.

ACTION: Final rule; correction.

SUMMARY: This action corrects a final rule published by the FAA in the Federal Register on September 3, 2025, amending Very High Frequency Omnidirectional Range (VOR) Federal Airways V-55, V-100, and V-277 due to the planned decommissioning of the VOR portion of the Keeler (ELX), MI, VOR/Distance Measuring Equipment (VOR/DME) in support of the FAA's VOR Minimum Operational Network (MON) program. Specifically, this action administratively corrects errors within the description of V-55 in the final rule as published on September 3, 2025.

DATES: The effective date of the final rule published in the Federal Register on September 3, 2025, remains 0901 UTC, November 27, 2025. The Director of the Federal Register approves this incorporation by reference action under 1 CFR part 51, subject to the annual revision of FAA Order 7400.11 and publication of conforming amendments.

ADDRESSES: FAA Order 7400.11K, Airspace Designations and Reporting Points, and subsequent amendments can be viewed online at www.faa.gov/air_traffic/publications/. You may also contact the Rules and Regulations Group, Policy Directorate, Federal Aviation Administration, 600 Independence Avenue SW, Washington DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

History

The FAA published a final rule in the Federal Register (90 FR 42531; September 3, 2025) amending VOR Federal Airways V-55, V-100, and V-277. Subsequent to the publication of that final rule, the FAA discovered a final rule previously published in the Federal Register (90 FR 14197; March 31, 2025), amending VOR Federal Airway V-55 in the vicinity of Goshen, IN. The amendment revoked a segment of the airway between the Fort Wayne, IN, VOR/Tactical Air Navigation (VORTAC) and the Gipper, MI, VORTAC. However, these changes were not reflected in the later-published final rule that is now being corrected. Specifically, in this now-corrected airspace action, the segment of V-55 between the Fort Wayne, IN, VORTAC and the Gipper, MI, VORTAC was included in the description despite having been previously revoked. This action corrects this error by removing the segment of V-55 between the Fort Wayne VORTAC and the Gipper VORTAC from the airway description. No other portion of the airway is affected by this rule.

Correction to the Final Rule

Accordingly, pursuant to the authority delegated to me, in Docket No. FAA-2025-0141 as published in the Federal Register on September 3, 2025 (90 FR 42531), FR Doc. 2025-16888, is corrected as follows:

On page 42533, in the first column, in the line directly below the bolded text “V-55 [Amended]”, replace the text “From Dayton, OH; Fort Wayne, IN; Goshen, IN; to Gipper, MI.” with “From Dayton, OH; to Fort Wayne, IN.”.

Issued in Washington, DC, on November 13, 2025.
Alex W. Nelson,
Acting Manager, Rules and Regulations Group.

[FR Doc. 2025-20028 Filed 11-14-25; 8:45 am]

BILLING CODE 4910-13-P